ENVIRONMENTAL PROTECTION AGENCY

[FRL-8875-01-R6]

Clean Air Act Operating Permit Program; Petitions for Objection to State Operating Permit for Blanchard Refining Company, Galveston Bay Refinery, Galveston County, Texas

AGENCY: Environmental Protection Agency (EPA).

ACTION: Notice of final order on petition for objection to Clean Air Act Title V operating permit.

SUMMARY: The Environmental Protection Agency (EPA) Administrator signed an Order dated August 9, 2021, granting in part and denying in part a Petition dated April 11, 2017 from the Environmental Integrity Project and Sierra Club. The Petition requested that the EPA object to a Clean Air Act (CAA) title V operating permit issued by the Texas Commission on Environmental Quality (TCEQ) to Blanchard Refining Company (Blanchard) for its Galveston Bay Refinery located in Galveston County, Texas.

ADDRESSES: The EPA requests that you contact the individual listed in the FOR FURTHER INFORMATION CONTACT section to view copies of the final Order, the Petition, and other supporting information. Out of an abundance of caution for members of the public and our staff, the EPA Region 6 office is currently closed to the public to reduce the risk of transmitting COVID-19. Please call or email the contact listed below if you need alternative access to the final Order and Petition, which are available electronically at: https://www.epa.gov/title-v-operating-permits/title-v-petition-database.

FOR FURTHER INFORMATION CONTACT: Aimee Wilson, EPA Region 6 Office, Air Permits Section, (214) 665-7596, wilson.aimee@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project and Sierra Club dated April 11, 2017, requesting that the EPA object to the issuance of operating permit no. O1541, issued by TCEQ to the Galveston Bay Refinery in Galveston County, Texas. The Petition claims the proposed permit improperly incorporated a State-only major source flexible permit, failed to establish a compliance schedule for Blanchard to obtain a federally approved major source permit, failed to identify, incorporate, and assure compliance with permits by rule (PBR) claimed by Blanchard, and failed to assure compliance with emission limits and operating requirements established by Blanchard's New Source Review (NSR) permits, including permits by rule.

On August 9, 2021, the EPA Administrator issued an Order granting in part and denying in part the Petition. The Order explains the basis for EPA's decision.

Dated: August 23, 2021.
David Garcia,
Director, Air and Radiation Division, Region 6.

[FR Doc. 2021-18933 Filed 9-1-21; 8:45 am]

BILLING CODE 6560-50-P